DEPARTMENT OF TRANSPORTATION

Office of the Secretary of Transportation

[DOT Docket No. DOT-OST-2010-0074]

The Future of Aviation Advisory Committee (FAAC) Environment Subcommittee; Notice of Meeting

AGENCY: U.S. Department of Transportation, Office of the Secretary of Transportation.

ACTION: The Future of Aviation Advisory Committee (FAAC) Environment Subcommittee; Notice of Federal Advisory Committee Meeting.

SUMMARY: The Department of Transportation (DOT), Office of the Secretary of Transportation, announces a meeting of the FAAC Environment Subcommittee, which will be held at InterContinental Chicago O'Hare Hotel, Field Room, 5300 North River Road, Rosemont, IL 60018. This notice announces the date, time, and location of the meeting, which will be open to the public. The purpose of the FAAC is to provide advice and recommendations to the Secretary of Transportation to ensure the competitiveness of the U.S. aviation industry and its capability to manage effectively the evolving transportation needs, challenges, and opportunities of the global economy. The Environment Subcommittee is charged with examining steps and strategies that can be taken by aviation-sector stakeholders and the Federal Government to reduce aviation's environmental footprint and foster sustainability gains in cost-effective ways. This includes consideration of potential approaches to promote effective international actions through the International Civil Aviation Organization.

DATES: The meeting will be held on October 5, 2010, from 10:30 a.m. to 3 p.m., Central Daylight Time (CDT).

ADDRESSES: The meeting will be held at the InterContinental Chicago O'Hare Hotel, Field Room, 5300 North River Road, Rosemont, IL 60018. Rosemont is located in the Chicago, IL, metropolitan area.

Public Access: The meeting is open to the public. (See below for registration instructions.)

Public Comments: Persons wishing to offer written comments and suggestions concerning the activities of the advisory committee or Environment Subcommittee should file comments in the Public Docket (Docket Number DOT-OST-2010-0074 at http://www.regulations.gov) or alternatively through the FAAC@dot.gov e-mail. If comments and suggestions are intended specifically for the Environment Subcommittee, the term “Environment” should be listed in the subject line of the message. To ensure such comments can be considered by the subcommittee before its October 5, 2010, meeting, public comments must be filed by 5 p.m., Eastern Daylight Time on Friday, October, 1, 2010.

SUPPLEMENTARY INFORMATION:

Background

Under section 10(a)(2) of the Federal Advisory Committee Act (5 U.S.C. App. 2), we are giving notice of a meeting of the Environment Subcommittee of the Future of Aviation Advisory Committee taking place on October 5, 2010, from 10:30 a.m. to 3 p.m. CDT, at the InterContinental Chicago O'Hare Hotel, Field Room, 5300 North River Road, Rosemont, IL 60018. The agenda includes—

1. Discussion of operational and technology improvements, sustainable alternative fuels, and harmonized domestic and global efforts that can contribute to reducing aviation carbon emissions.

2. Consideration of public comments.

3. Identification of environmental options for presentation at the next meeting of the full committee.

Registration

The meeting room can accommodate up to 20 members of the public. Persons desiring to attend must pre-register through e-mail to FAAC@dot.gov. The term “Registration: Environment” should be listed in the subject line of the message and admission will be limited to the first 20 persons to pre-register and receive a confirmation of their pre-registration. The last day for registration is October 1, 2010.

Minutes of the meeting will be taken and will be made available to the public.

Requests for Special Accommodation

The DOT is committed to providing equal access to this meeting for all participants. If you need alternative formats or services because of a disability, please send a request to FAAC@dot.gov with the term “Special Accommodations” listed in the subject line of the message by close of business Friday, October 1, 2010.

FOR FURTHER INFORMATION CONTACT: Camille Mittelholtz, Deputy Director, Office of Safety, Energy, and Environment, Office of the Secretary of Transportation, 1200 New Jersey Avenue, SE., Washington, DC 20590; telephone (202) 366-4861; fax (202) 366-7638; Camille.Mittelholtz@dot.gov.

Issued in Washington, DC, on September 16, 2010.
Pamela Hamilton-Powell,
Designated Federal Official, Future of Aviation Advisory Committee.

[FR Doc. 2010-23504 Filed 9-20-10; 8:45 am]

BILLING CODE P